DEPARTMENT OF ENERGY

Energy Information Administration

Agency Information Collection Proposed Extension

AGENCY: U.S. Energy Information Administration (EIA), Department of Energy (DOE).

ACTION: Notice and request for comments.

SUMMARY: EIA invites public comment on the proposed extension of the collection of information for the Cryptocurrency Mining Facilities Survey, as required under the Paperwork Reduction Act of 1995. The original collection was approved by the Office of Management and Budget on January 26, 2024, under the emergency approval provisions of the Paperwork Reduction Act.

DATES: EIA must receive all comments on this proposed information collection no later than April 9, 2024. If you anticipate any difficulties in submitting your comments by the deadline, contact the person listed in the ADDRESSES section of this notice as soon as possible.

ADDRESSES: Written comments may be sent to Glenn McGrath by email at Glenn.McGrath@eia.gov.

FOR FURTHER INFORMATION CONTACT: Glenn McGrath, EI-23, U.S. Energy Information Administration, telephone 1-202-586-4325, email Glenn.McGrath@eia.gov. The form and instructions are available at www.eia.gov/survey/#eia-862.

SUPPLEMENTARY INFORMATION: Comments are invited on whether or not: (a) The proposed collection of information is necessary for the proper performance of agency functions, including whether the information will have a practical utility; (b) EIA's estimate of the burden of the proposed collection of information, including the validity of the methodology and assumptions used, is accurate; (c) EIA can improve the quality, utility, and clarity of the information it will collect; and (d) EIA can minimize the burden of the collection of information on respondents, such as automated collection techniques or other forms of information technology.

This information collection request contains:

(1) OMB No.: 1905-0213;

(2) Information Collection Request Title: Cryptocurrency Mining Facilities Survey;

(3) Type of Request: Three-year extension without change;

(4) Purpose: The mining of cryptocurrency is an energy-intensive activity that requires substantial amounts of electricity. Several cryptocurrencies, most notably Bitcoin, use a proof of work approach that requires cryptocurrency miners to validate blocks of transactions by solving complex cryptographic puzzles that require significant computational power. Commercial mining facilities typically operate thousands of computers that work to add blocks of virtual currency transactions to a distributed ledger called a blockchain. The computational equipment must be cooled, which further increases the associated electricity consumption. Given its high rate of consumption, companies, organizations and government agencies engaged in the electricity business require detailed information about how much electrical energy is being consumed by cryptocurrency miners and where it is occurring. The U.S. Energy Information Administration (EIA) has engaged in a rigorous evaluation of U.S. cryptocurrency mining activity using publicly available information. EIA estimates cryptocurrency mining activity demands as much as 2.3% of U.S. electricity consumption. Furthermore, there is evidence that this electricity consumption is growing rapidly. The combined effects of increased cryptocurrency mining and stressed electricity systems create heightened uncertainty in electric power markets, which could contribute to public harm during an unexpected event.

On January 26, 2024, the Office of Management and Budget (OMB) granted approval under the emergency approval provisions of the Paperwork Reduction Act (PRA) for EIA to immediately begin collecting monthly information that will inform the public on the impact of recent increases in U.S. commercial cryptocurrency mining activity on both the supply and demand side of the electric power system. The Cryptocurrency Mining Facilities Survey, Form EIA-862, uses facility-level reporting to provide a baseline snapshot of the cryptocurrency mining companies in the sample and their energy use, quantify the rate of change in cryptocurrency mining activity among the companies and their facilities, identify electricity sources supplying U.S. cryptocurrency mining activity, and identify regions in the U.S. with concentrated cryptocurrency mining activity.

Due to the need to begin collecting this information right away, EIA was unable to allow for the time periods normally required for clearance under the PRA. The approval granted by OMB is through July 31, 2024. This approval allows EIA to conduct the Cryptocurrency Mining Facilities Survey for up to 6 months. EIA now seeks to extend clearance for the survey for an additional three years.

(5) Annual Estimated Number of Respondents: 82;

(6) Annual Estimated Number of Total Responses: 984;

(7) Annual Estimated Number of Burden Hours: 492;

(8) Annual Estimated Reporting and Recordkeeping Cost Burden: The cost of the burden hours is estimated to be $42,981 (492 burden hours times $87.36 per hour). EIA estimates that respondents will have no additional costs associated with the surveys other than the burden hours and maintenance of the information as part of the normal course of business.

Statutory Authority: 15 U.S. C. 772(b) and 42 U.S.C. 7101 et seq.

Signed in Washington, DC, on February 5, 2024.
Samson A. Adeshiyan,
Director, Office of Statistical Methods and Research, U. S. Energy Information Administration.

[FR Doc. 2024-02727 Filed 2-8-24; 8:45 am]

BILLING CODE 6450-01-P